DEPARTMENT OF THE INTERIOR

National Park Service

[NPS-WASO-NRNHL-18648; PPWOCRADI0, PCU00RP14.R50000]

National Register of Historic Places; Notification of Pending Nominations and Related Actions

Nominations for the following properties being considered for listing or related actions in the National Register were received by the National Park Service before June 13, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 22, 2015. Before including your address, phone number, email address, or other personal identifying information in your comment, you should be aware that your entire comment—including your personal identifying information—may be made publicly available at any time. While you can ask us in your comment to withhold your personal identifying information from public review, we cannot guarantee that we will be able to do so.

Dated: June 19, 2015.
J. Paul Loether,
Chief, National Register of Historic Places/National Historic Landmarks Program.

CALIFORNIA

San Bernardino County

Eagle Well Petroglyph Site, Address Restricted, Barstow, 15000470

COLORADO

Chaffee County

Commercial Hotel, 43255 Cty. Rd. 397, Granite, 15000460

Fay, William and Anna, House, 201 S. Colorado Ave., Buena Vista, 15000461

Kelley—McDonald House, 108 S. Pleasant Ave., Buena Vista, 15000462

Pedro—Botz House, 7467 Cty. Rd. 150, Salida, 15000463

Rock Ledge Ranch—Franzel Ranch, 17975 Cty. Rd. 338, Buena Vista, 15000464

Salida Livestock Commission Company, 5005 E. US 50, Salida, 15000465

GEORGIA

Fulton County

Ansley Park Historic District (Boundary Increase, Decrease and Additional Documentation), Roughly bounded by RR tracks, Beverly Rd., Piedmont Ave., Spring, 15th & Peachtree Sts., Atlanta, 15000466

IOWA

Linn County

Averill, Glenn M. and Edith, House, 616 4th Ave. SE., Cedar Rapids, 15000472

Scott County

Harrison, Issac W., House, (Davenport MRA) 318 E. 10th, Davenport, 83004560

MASSACHUSETTS

Essex County

Greenlawn Cemetery, 57 Orne St., Salem, 15000467

Hampshire County

Plainfield Center Historic District, Portions of Church Ln., Broom, Central, Main, Pleasant & Union Sts., Plainfield, 15000468

Plymouth County

First Baptist Church of Scituate, 656 & 660 Country Way, Scituate, 15000469

MISSOURI

Jackson County

Fairfax Building, The, 101 W. 11th St., Kansas City, 15000471

NEW YORK

Albany County

Former Parsonage of the Reformed Dutch Church of Coeymans, 32 Church St., Coeymans, 15000473

McCarty, Brigadier General David, Stone Cottage, 29 2nd St., Coeymans, 15000474

Columbia County

Coons, Charles H., Farm, 516 Church Ave., Germantown, 15000475

Delaware County

First Congregational Church of Walton, 4 Mead St.,Walton, 15000476

VERMONT

Windsor County

Fox Stand, 5615 VT 14, Royalton, 15000477

WISCONSIN

Door County

Jacksonport Wharf Archaeological District (Boundary Increase and Additional Documentation), Near Lakeside Park off Cty. Rd. V, Jacksonport, 15000478

Milwaukee County

MILWAUKEE (steam screw) Shipwreck, (Great Lakes Shipwreck Sites of Wisconsin MPS) 3 mi. E. of Fox Point, Fox Point, 15000479

[FR Doc. 2015-16568 Filed 7-6-15; 8:45 am]

BILLING CODE 4312-51-P